DEPARTMENT OF COMMERCE

Submission for OMB Review; Comment Request

The Department of Commerce has submitted to the Office of Management and Budget (OMB) for clearance the following proposal for collection of information under the provisions of the Paperwork Reduction Act (44 U.S.C. Chapter 35).

Agency: National Institute of Standards and Technology (NIST).

Title: U.S. Measurement Systems Biophotonics Survey.

Form Number(s): None.

OMB Approval Number: None.

Type of Review: Regular submission.

Burden Hours: 10.

Number of Respondents: 60.

Average Hours Per Response: 10 minutes.

Needs and Uses: NIST would like to determine the industry expectations for metrology needs of biophotonics applied to cell and tissue diagnostics aspects of health care over the next 10 years. To begin this process, NIST will sponsor a workshop entitled Biophotonic Tools for Cell and Tissue Diagnostics. This workshop will focus on diagnostic techniques involving the interaction between biological systems and photons. The survey will collect limited background information (e.g., professional training and interests).

Affected Public: Business or other for-profit organizations.

Frequency: One-time only.

Respondent's Obligation: Voluntary.

OMB Desk Officer: Jasmeet Seehra, (202) 395-3123.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Jasmeet Seehra, OMB Desk Officer, FAX number (202) 395-3123, or Jasmeet_K._Seehra@omb.eop.gov.

Dated: November 7, 2005.
Gwellnar Banks,
Management Analyst, Office of the Chief Information Officer.

[FR Doc. 05-22511 Filed 11-10-05; 8:45 am]

BILLING CODE 3510-13-P